DEPARTMENT OF THE TREASURY

Office of Foreign Assets Control

Supplemental Information for 57 Individuals and 42 Entities Designated Pursuant to Executive Orders 12947, 13224, and/or 13582

AGENCY: Office of Foreign Assets Control, Treasury.

ACTION: Notice.

SUMMARY: The Treasury Department's Office of Foreign Assets Control (OFAC) is publishing supplemental information on the List of Specially Designated Nationals and Blocked Persons (SDN List) for 57 individuals and 42 entities whose property and interests in property are blocked pursuant to one or more of the following authorities: Executive Order 13224, “Blocking Property and Prohibiting Transactions with Persons who Commit, Threaten to Commit, or Support Terrorism;” Executive Order 12947, “Prohibiting Transactions With Terrorists Who Threaten To Disrupt the Middle East Peace Process;” and Executive Order 13582, “Blocking Property of the Government of Syria and Prohibiting Certain Transactions With Respect to Syria.” The SDN List entry for each of these individuals and entities has been amended to include the language “Additional Sanctions Information—Subject to Secondary Sanctions Pursuant to the Hizballah Financial Sanctions Regulations.”

DATES: The amendments to the SDN List described in this notice were published on April 15 and May 11, 2016.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic and Facsimile Availability

The SDN List and additional information concerning OFAC sanctions programs are available from OFAC's Web site (www.treas.gov/ofac). Certain general information pertaining to OFAC's sanctions programs is also available via facsimile through a 24-hour fax-on-demand service, tel.: 202/622-0077.

Notice of OFAC Actions

On April 15 and May 11, 2016, OFAC amended the SDN List to include supplemental information for 57 individuals and 42 entities whose property and interests in property are blocked pursuant to one or more of the following authorities: Executive Order 13224, “Blocking Property and Prohibiting Transactions with Persons who Commit, Threaten to Commit, or Support Terrorism;” Executive Order 12947, “Prohibiting Transactions With Terrorists Who Threaten To Disrupt the Middle East Peace Process;” and Executive Order 13582, “Blocking Property of the Government of Syria and Prohibiting Certain Transactions With Respect to Syria.” As amended, the SDN List entries for the individuals and entities are as follows:

Individuals

1. ABDALLAH, Muhammad Yusif, Avenue Presidente Juscelino Kubistcheck 338, Apartment 1802, Center, Foz do Iguacu, Brazil; Avenue Presidente Juscelino Kubistcheck 133, Apartment 102, Center, Foz do Iguacu, Brazil; DOB 15 Jun 1952; POB Khalia, Lebanon; citizen Lebanon; alt. citizen Paraguay; Additional Sanctions Information—Subject to Secondary Sanctions Pursuant to the Hizballah Financial Sanctions Regulations; Cedula No. 1110775 (Paraguay); Passport 670317 (Lebanon); alt. Passport 137532 (Paraguay) (individual) [SDGT].

2. ALIQ, Qasim (a.k.a. ALEIK, Kassem; a.k.a. 'ALIQ, Hajj Qasim; a.k.a. 'ALIQ, Qasem; a.k.a. 'ULAYQ, Qasim); DOB 1956; POB Lebanon; Additional Sanctions Information—Subject to Secondary Sanctions Pursuant to the Hizballah Financial Sanctions Regulations (individual) [SDGT].

3. AL-MUSAWI, Ali Mussa Daqduq (a.k.a. 'ABD AL-YUNIS, Hamid Majid; a.k.a. AL-LAMI, Hamid Muhammad; a.k.a. AL-MASUI, Husayn Muhammad Jabur; a.k.a. AL-MUSAWI, Hamid Muhammad Daqduq; a.k.a. AL-MUSAWI, Hamid Muhammad Jabur; a.k.a. AL-MUSUI, Hamid Muhammad Jabur; a.k.a. DAQDUQ, Ali Mussa; a.k.a. JABUR AL-LAMI, Hamid Muhammad); DOB 01 Sep 1969; alt. DOB 31 Dec 1971; alt. DOB 09 Aug 1971; alt. DOB 09 Sep 1970; alt. DOB 09 Aug 1969; alt. DOB 05 Mar 1972; POB Beirut, Lebanon; alt. POB Al-Karradah, Baghdad, Iraq; nationality Lebanon; Additional Sanctions Information—Subject to Secondary Sanctions Pursuant to the Hizballah Financial Sanctions Regulations (individual) [SDGT].

4. AL-QUBAYSI, Abd-al-Munim (a.k.a. KOBEISSI, Abd Al Menhem; a.k.a. KOBEISSI, Abdel Menhem; a.k.a. KOBEISSI, Abdul Menhem; a.k.a. KOBEISSY, Abdul Menhem; a.k.a. KUBAYSY, Abd Al Munhim; a.k.a. QUBAYSI, Abd Al Menhem); DOB 01 Jan 1964; alt. DOB 1961; POB Beirut, Lebanon; nationality Lebanon; Additional Sanctions Information—Subject to Secondary Sanctions Pursuant to the Hizballah Financial Sanctions Regulations; Passport RL 1622378 (Lebanon) (individual) [SDGT].

5. AL-SHAMI, Ahmad; DOB 1965; POB Beirut, Lebanon; Additional Sanctions Information—Subject to Secondary Sanctions Pursuant to the Hizballah Financial Sanctions Regulations (individual) [SDGT].

6. AL-SHAMI, Husayn (a.k.a. AL-SHAMI, Haj Husayn; a.k.a. AL-SHAMY, Husayn; a.k.a. ASHAMI, Husayn; a.k.a. SHAIMI, Husayn; a.k.a. SHAMAI, Husayn; a.k.a. SHAMY, Husayn), Lebanon; DOB 1948; alt. DOB 1954; alt. DOB 1960; Additional Sanctions Information—Subject to Secondary Sanctions Pursuant to the Hizballah Financial Sanctions Regulations (individual) [SDGT].

7. AL-WATFA, Ali Ibrahim (a.k.a. AL-WAFA, Ali Ibrahim; a.k.a. AL-WAFA, Alie Ibrahim; a.k.a. AL-WATFA, Alie Ibrahim; a.k.a. IBRAHIM, Al Hajj Alie), 26 Malama Thomas Street, Freetown, Sierra Leone; DOB 1969; POB Al Qalamun, Lebanon; Additional Sanctions Information—Subject to Secondary Sanctions Pursuant to the Hizballah Financial Sanctions Regulations (individual) [SDGT].

8. AMHAZ, Kamel Mohamad (a.k.a. AL-AMHAZ, Kamel; a.k.a. AMHAZ, Kamel; a.k.a. AMHAZ, Kamel Mohamed; a.k.a. AMHAZ, Kamil), 5th Floor, Ghadir Building, Kods Street, Haret Hreik, Baabda, Lebanon; Ghadir, 5th Floor, Safarat, Bir Hassan, Jenah, Lebanon; Ghadir 5th Floor, Embassies Street, Bir Hasan, Lebanon; Dallas Center, Saida Old Street, Chiah, Baabda, Lebanon; DOB 04 Aug 1973; nationality Lebanon; Additional Sanctions Information—Subject to Secondary Sanctions Pursuant to the Hizballah Financial Sanctions Regulations; Passport RL2244333 (Lebanon); Identification Number 61 Niha El-Mehfara; President and Chief Executive Officer, Stars Group Holding (individual) [SDGT].

9. AMHAZ, Issam Mohamad (a.k.a. AMHAZ, 'Isam; a.k.a. AMHAZ, Issam Mohamed), Ghadir, 5th Floor, Safarat, Bir Hassan, Jenah, Lebanon; Issam Mohamad Amhaz Property, Ambassades (Safarate), Bir Hassan Area, Ghobeiri, Baabda, Lebanon; DOB 04 Mar 1967; POB Baalbek, Lebanon; nationality Lebanon; Additional Sanctions Information—Subject to Secondary Sanctions Pursuant to the Hizballah Financial Sanctions Regulations; Passport RL0000199 (Lebanon); Identification Number 61 Nabha; Chairman, Stars Group Holding; General Manager, Teleserveplus (individual) [SDGT].

10. AQIL, Ibrahim (a.k.a. AKIEL, Ibrahim Mohamed; a.k.a. AKIL, Ibrahim Mohamed); DOB 24 Dec 1962; alt. DOB 01 Jan 1962; POB Bidnayil, Lebanon; Additional Sanctions Information—Subject to Secondary Sanctions Pursuant to the Hizballah Financial Sanctions Regulations (individual) [SYRIA] (Linked To: HIZBALLAH).

11. ATRIS, Hussein (a.k.a. HUSSEIN, Atris); DOB 11 Nov 1964; POB Lebanon; Additional Sanctions Information—Subject to Secondary Sanctions Pursuant to the Hizballah Financial Sanctions Regulations (individual) [SDGT].

12. ATWA, Ali (a.k.a. BOUSLIM, Ammar Mansour; a.k.a. SALIM, Hassan Rostom), Lebanon; DOB 1960; POB Lebanon; citizen Lebanon; Additional Sanctions Information—Subject to Secondary Sanctions Pursuant to the Hizballah Financial Sanctions Regulations (individual) [SDGT].

13. BADR AL DIN, Mustafa (a.k.a. AL FIQAR, Dhu; a.k.a. BADREDDINE, Mustafa Amine; a.k.a. BADREDDINE, Mustafa Youssef; a.k.a. ISSA, Sami; a.k.a. SAAB, Elias Fouad; a.k.a. SA'B, Ilyas), Beirut, Lebanon; DOB 06 Apr 1961; POB Al-Ghobeiry, Beirut, Lebanon; Additional Sanctions Information—Subject to Secondary Sanctions Pursuant to the Hizballah Financial Sanctions Regulations (individual) [SDGT] [SYRIA] (Linked To: HIZBALLAH).

14. BARAKAT, Hatim Ahmad (a.k.a. BARAKAT, Hatam Ahmad; a.k.a. BARAKAT, Hatem Ahmad; a.k.a. BARAKAT, Hattem Ahmad; a.k.a. BARAKAT, Hotem Ahmad); DOB 25 Sep 1961; POB Mousaitbe, Lebanon; alt. citizen Lebanon; alt. citizen Paraguay; Additional Sanctions Information—Subject to Secondary Sanctions Pursuant to the Hizballah Financial Sanctions Regulations; Passport 183319 (Paraguay); alt. Passport 148842 (Paraguay); alt. Passport 106318 (Paraguay); Identification Number 2.194.575 (Paraguay); alt. Identification Number 2.194.975 (Paraguay) (individual) [SDGT].

15. BARAKAT, Mohammad Fayez; DOB 11 Mar 1969; POB Rubtlatine, Lebanon; alt. citizen Lebanon; alt. citizen Paraguay; Additional Sanctions Information—Subject to Secondary Sanctions Pursuant to the Hizballah Financial Sanctions Regulations; Identification Number 2.121.948 (Paraguay) (individual) [SDGT].

16. BARAKAT, Assad Ahmad (a.k.a. BARAKAT, Assaad Ahmad; a.k.a. BARAKAT, Assad; a.k.a. BARAKAT, Assad Ahmed Muhammad; a.k.a. BARAKAT, Assad Hassan; a.k.a. BARAKAT, Jach Assad Ahmad; a.k.a. “HAJJ AS'AD AHMAD”), Rue Taroba 1005, Beatriz Menez Building, Foz do Iguacu, Brazil; Rua Rio Branco Lote 682, Quadra 13, Foz do Iguacu, Brazil; Rua Xavier Da Silva 535, Edificio Martin Terro, Apartment 301, Foz do Iguacu, Brazil; Rua Silva Jardim 290, Foz do Iguacu, Brazil; Arrecife Apartment Building, Iquique, Chile; Apartment 111, Panorama Building, Iquique, Chile; Piribebuy Y A. Jara, Ciudad del Este, Paraguay; DOB 25 Mar 1967; POB Lebanon; Additional Sanctions Information—Subject to Secondary Sanctions Pursuant to the Hizballah Financial Sanctions Regulations (individual) [SDGT].

17. CHARARA, Ali Youssef (a.k.a. SHARARA, Ali Youssef; a.k.a. SHARARA, 'Ali Yusuf), Ghobeiry Center, Mcharrafieh, Beirut, Lebanon; Verdun 732 Center, 17th Floor, Verdun, Rachid Karameh Street, Beirut, Lebanon; Al-Ahlam, 4th Floor, Embassies Street, Bir Hassan, Beirut, Lebanon; DOB 25 Sep 1968; POB Sidon, Lebanon; Additional Sanctions Information—Subject to Secondary Sanctions Pursuant to the Hizballah Financial Sanctions Regulations; Gender Male (individual) [SDGT] (Linked To: HIZBALLAH).

18. CHEHADE, Ali Ahmad (a.k.a. CHEADE, Ali; a.k.a. CHEHADE, Abou Hassan Ali; a.k.a. JAWAD, Abou Hassan; a.k.a. JAWAD, Abu Hassan; a.k.a. SHIHADI, Ali), Abidjan, Cote d Ivoire; DOB 05 Jan 1961; POB Ansarie, Lebanon; citizen Lebanon; Additional Sanctions Information—Subject to Secondary Sanctions Pursuant to the Hizballah Financial Sanctions Regulations; Passport RL0516070 (Lebanon) (individual) [SDGT].

19. CHERRI, Adel Mohamad (a.k.a. CHERRI, Adel Mohammad; a.k.a. SHIRRI, 'Adil), Suite 15A, Mingshang GE Shenganghao Yuan Building, Bao An Nan Road, Luohu District, Shenzhen, Guangdong, China; 1/F, Bei Fang Building, Shennan Zhong Road, Shenzhen, Guangdong, China; Flat/Room 1610, Nan Fung Tower, 173 Des Voeux Road Central, Hong Kong; Cherri Building, Main Street, Beer Al Salasel, Kherbet Selem, Nabatieh, Lebanon; DOB 03 Oct 1963; POB Beirut, Lebanon; Additional Sanctions Information—Subject to Secondary Sanctions Pursuant to the Hizballah Financial Sanctions Regulations; Gender Male; Passport RL2566575 (Lebanon) expires 03 Jul 2018 (individual) [SDGT] (Linked To: HIZBALLAH).

20. FADLALLAH, Shaykh Muhammad Husayn; DOB 1938; alt. DOB 1936; POB Najf Al Ashraf (Najaf), Iraq; Additional Sanctions Information—Subject to Secondary Sanctions Pursuant to the Hizballah Financial Sanctions Regulations; Leading Ideological Figure of HIZBALLAH (individual) [SDT].

21. FARAH, Meliad (a.k.a. “HUSSEIN”; a.k.a. “HUSSEIN, Hussein”); DOB 05 Nov 1980; citizen Australia; alt. citizen Lebanon; Additional Sanctions Information—Subject to Secondary Sanctions Pursuant to the Hizballah Financial Sanctions Regulations (individual) [SDGT].

22. FA'UR, Husayn Ali (a.k.a. FAOUR, Housein Ali); DOB 1966; POB Al-Khayam, Lebanon; nationality Lebanon; Additional Sanctions Information—Subject to Secondary Sanctions Pursuant to the Hizballah Financial Sanctions Regulations; Gender Male (individual) [SDGT] (Linked To: HIZBALLAH).

23. FAWAZ, Fouzi Reda Darwish (a.k.a. DARWISH-FAWAZ, Fawzy Reda; a.k.a. DARWISH-FAWAZ, Fouzi Reda; a.k.a. FAWAZ, Fawzi Reda; a.k.a. FAWAZ, Fawzy; a.k.a. FAWAZ, Fowzy; a.k.a. FAWWAZ, Fawzi); DOB 12 Feb 1968; alt. DOB 24 Mar 1973; POB Jwaya, Lebanon; alt. POB Sierra Leone; citizen Lebanon; alt. citizen Nigeria; alt. citizen Sierra Leone; Additional Sanctions Information—Subject to Secondary Sanctions Pursuant to the Hizballah Financial Sanctions Regulations; Passport 0107516 (Lebanon); alt. Passport 0258649 (individual) [SDGT] (Linked To: HIZBALLAH).

24. FAWAZ, Mustapha Reda Darwish (a.k.a. DARWISH-FAWAZ, Moustafa Reda; a.k.a. FAWAZ, Mostafa Reda Darwich; a.k.a. FAWAZ, Moustapha; a.k.a. FAWAZ, Mustafa; a.k.a. FAWAZ, Mustafa Darwish; a.k.a. FAWAZ, Mustapha; a.k.a. FAWAZ, Mustapha Rhoda Darwich; a.k.a. FAWAZ, Mustapha Rida Darwich; a.k.a. FAWWAZ, Mustafa), Flat 4, Blantyre Street, Behind Amigo Supermarket, Wuse II, Abuja, Nigeria; 3 Gaya Road, Kano, Nigeria; DOB 25 Jun 1964; alt. DOB 10 Sep 1964; POB Jwaya, Lebanon; alt. POB Koidu Town, Sierra Leone; citizen Lebanon; alt. citizen Nigeria; alt. citizen Sierra Leone; Additional Sanctions Information—Subject to Secondary Sanctions Pursuant to the Hizballah Financial Sanctions Regulations; Gender Male; Passport RL 2101602 (Lebanon); alt. Passport RL 0148105 (Lebanon); alt. Passport 0168459 (Sierra Leone); alt. Passport 0257909 (Sierra Leone); SSN 418-15-2837 (United States) (individual) [SDGT] (Linked To: HIZBALLAH).

25. FAWAZ, Abbas Loutfe (a.k.a. FAWWAZ, 'Abbas Abu-Ahmad; a.k.a. FOUAZ, Abbas), Dakar, Senegal; DOB 07 Aug 1978; POB Jwaya, Lebanon; alt. POB Dakar, Senegal; citizen Lebanon; alt. citizen Senegal; Additional Sanctions Information—Subject to Secondary Sanctions Pursuant to the Hizballah Financial Sanctions Regulations; Personal ID Card 096574S (Senegal) (individual) [SDGT].

26. FAYAD, Saleh Mahmoud (a.k.a. FAYYAD, Saleh Mahmud); DOB 20 Oct 1972; POB Al-Taybe, Lebanon; Additional Sanctions Information—Subject to Secondary Sanctions Pursuant to the Hizballah Financial Sanctions Regulations (individual) [SDGT].

27. FAYAD, Sobhi Mahmoud (a.k.a. FAYAD, Soubi Mamout; a.k.a. FAYADH, Sobhi Mahmoud; a.k.a. FAYYAD, Subhi Mahmud), 315, Piso 3, Galeria Page, Ciudad del Este, Paraguay; DOB 20 Aug 1965; POB Al-Taybe, Lebanon; alt. citizen Lebanon; alt. citizen Paraguay; Additional Sanctions Information—Subject to Secondary Sanctions Pursuant to the Hizballah Financial Sanctions Regulations; Passport 1035562 (Paraguay); alt. Passport 220705 (Paraguay); alt. Passport 189103 (Paraguay); alt. Passport 142517 (Paraguay); alt. Passport 002301585 (Paraguay) (individual) [SDGT].

28. HAMIYAH, Talal (a.k.a. HAMIYAH, Talal Husni; a.k.a. MEZERANI, Ismat); DOB 27 Nov 1952; alt. DOB 18 Mar 1960; alt. DOB 05 Mar 1958; alt. DOB 08 Dec 1958; POB Tarayya, Lebanon; alt. POB Sojad, Lebanon; nationality Lebanon; citizen Lebanon; Additional Sanctions Information—Subject to Secondary Sanctions Pursuant to the Hizballah Financial Sanctions Regulations (individual) [SDGT].

29. HARB, Khalil Yusif (a.k.a. AHMAD, Sayyid; a.k.a. HARB, Hajj Ya'taqad Khalil; a.k.a. HARB, Khalil Yusuf; a.k.a. HARB, Mustafa Khalil; a.k.a. MUSTAFA, Abu); DOB 09 Oct 1958; Additional Sanctions Information—Subject to Secondary Sanctions Pursuant to the Hizballah Financial Sanctions Regulations (individual) [SDGT].

30. HASSAN, Hassan el-Hajj (a.k.a. HASSAN, Hassan El Hajj); DOB 22 Mar 1988; citizen Canada; alt. citizen Lebanon; Additional Sanctions Information—Subject to Secondary Sanctions Pursuant to the Hizballah Financial Sanctions Regulations (individual) [SDGT].

31. IBRAHIM, Ayman (a.k.a. IBRAHIM, Ayman Ahmad); DOB 01 Apr 1979; POB 'Adlun, Lebanon; Additional Sanctions Information—Subject to Secondary Sanctions Pursuant to the Hizballah Financial Sanctions Regulations; General Manager, Unique Stars Mobile Phones LLC (individual) [SDGT] (Linked To: UNIQUE STARS MOBILE PHONES LLC).

32. IZZ-AL-DIN, Hasan (a.k.a. SALWWAN, Samir; a.k.a. “GARBAYA, AHMED”; a.k.a. “SA-ID”), Lebanon; DOB 1963; POB Lebanon; citizen Lebanon; Additional Sanctions Information—Subject to Secondary Sanctions Pursuant to the Hizballah Financial Sanctions Regulations (individual) [SDGT].

33. KAN'AN, Fawzi Mustafa (a.k.a. CANAAN, Fazi; a.k.a. CAN'AN, Faouzi; a.k.a. GANAN, Fauzi; a.k.a. KANAAN, Fauzi; a.k.a. KANAAN, Maustaf Fawzi (Faouzi); a.k.a. KAN'AN, Fawzi; a.k.a. KANAN, Fouzi), Calle 2, Residencias Cosmos, Fifth Floor, Apartment 5D, La Urbina, Caracas, Venezuela; Esquina Bucare, Building 703, Second Floor, Apartment 20, Caracas, Venezuela; DOB 07 Jun 1943; alt. DOB Feb 1943; alt. DOB 01 Jun 1943; POB Lebanon; alt. POB Betechelida, Lebanon; alt. POB Baalbeck, Lebanon; Additional Sanctions Information—Subject to Secondary Sanctions Pursuant to the Hizballah Financial Sanctions Regulations; Passport 0877677 (Venezuela); National ID No. V-6.919.272 (Venezuela) (individual) [SDGT].

34. KAWTHARANI, Muhammad (a.k.a. AL-KAWTHARANI, Jafar; a.k.a. AL-KAWTHARANI, Muhammad; a.k.a. KAWTARANI, Muhammad; a.k.a. KAWTHARANI, Mohammad); DOB 1945; alt. DOB 1959; alt. DOB 1961; POB Najaf, Iraq; nationality Lebanon; alt. nationality Iraq; Additional Sanctions Information—Subject to Secondary Sanctions Pursuant to the Hizballah Financial Sanctions Regulations (individual) [SDGT].

35. KAZAN, Ali Muhammad (a.k.a. KASSAN, Ali Mohamad; a.k.a. QAZAN, Ali Mohamad), Avenue Taroba, 1005 Edificio Beatriz Mendes, Apt 1704, Foz do Iguacu, Brazil; DOB 19 Dec 1967; POB Taibe, Lebanon; alt. citizen Lebanon; alt. citizen Paraguay; Additional Sanctions Information—Subject to Secondary Sanctions Pursuant to the Hizballah Financial Sanctions Regulations; Passport 0089044 (Lebanon) (individual) [SDGT].

36. KHALIFEH, Hanna Elias (a.k.a. KHALIFAH, Hanna; a.k.a. KHALIFE, Hanna), Midan Street, Mazraat Yachouh, Metn, Lebanon; Asaad Karam Building, Midan Street, Mazraat Yachouh, Lebanon; DOB 09 Jul 1955; nationality Lebanon; Additional Sanctions Information—Subject to Secondary Sanctions Pursuant to the Hizballah Financial Sanctions Regulations; Passport RL2033216 (Lebanon) (individual) [SDGT].

37. KHANAFER, Hicham Nmer (a.k.a. KANAFER, Hicham; a.k.a. KANAFER, Hisham; a.k.a. KHANAFAR, Hisham; a.k.a. KHANAFIR, Hisham); DOB 23 May 1965; POB Ainata, Lebanon; alt. POB Kuntair, The Gambia; nationality Lebanon; alt. nationality The Gambia; Additional Sanctions Information—Subject to Secondary Sanctions Pursuant to the Hizballah Financial Sanctions Regulations; Passport 1617889 (Lebanon) (individual) [SDGT].

38. KUNTAR, Samir (a.k.a. AL-KUNTAR, Samir; a.k.a. CANTAR, Samir; a.k.a. KANTAR, Sameer; a.k.a. KINTAR, Samir; a.k.a. QANTAR, Samir; a.k.a. QINTAR, Samir; a.k.a. QUNTAR, Samir); DOB 20 Jul 1962; alt. DOB 1961; POB Lebanon; Additional Sanctions Information—Subject to Secondary Sanctions Pursuant to the Hizballah Financial Sanctions Regulations (individual) [SDGT] (Linked To: HIZBALLAH).

39. MANSUR, Muhammad Yusuf Ahmad (a.k.a. HALAWI, Hani; a.k.a. MANSOUR, Mohammad Yousef; a.k.a. MANSOUR, Mohammad Youssef; a.k.a. MANSUR, Mohammad Yusuf Ahmad; a.k.a. MANSUR, Muhammad Yusif Ahmad; a.k.a. SHEHAB, Sami; a.k.a. SHIHAB, Sami Hani; a.k.a. “HILLAWI, Jamal Hani”; a.k.a. “SAMI, Salem Bassem”; a.k.a. “SHIHAB, Muhammad Yusuf Mansur Sami”), Beirut, Lebanon; DOB 14 Sep 1970; alt. DOB 01 Jan 1974; alt. DOB 1980; POB Bint Jubayl, Lebanon; Additional Sanctions Information—Subject to Secondary Sanctions Pursuant to the Hizballah Financial Sanctions Regulations (individual) [SDGT].

40. NASR AL DIN, Ghazi (a.k.a. NASR AL-DIN, Hajj Ghazi 'Atif; a.k.a. NASR EL DIN GHASSAN, Ghassan; a.k.a. NASRALDINE, Ghazi 'Atef; a.k.a. NASSER AL-DIN, Ghazil; a.k.a. NASSER EL-DIN, Gazi; a.k.a. NASSERDDINE, Ghassan Attef Salame; a.k.a. NASSERDDINE, Ghazi; a.k.a. NASSERDINE GHASAN, Atef Salameh; a.k.a. NASSEREDDINE, Ghazi; a.k.a. NASSEREDDINE, Haj Ghazzi; a.k.a. NASSEREDINE, Haj Ghazi; a.k.a. NASSERIDINE, Gazi); DOB 13 Dec 1962; POB Lebanon; Additional Sanctions Information—Subject to Secondary Sanctions Pursuant to the Hizballah Financial Sanctions Regulations (individual) [SDGT].

41. NASRALLAH, Hasan (a.k.a. NASRALLAH, Hasan Abd-al-Karim); DOB 31 Aug 1960; alt. DOB 31 Aug 1953; alt. DOB 31 Aug 1955; alt. DOB 31 Aug 1958; POB Al Basuriyah, Lebanon; Additional Sanctions Information—Subject to Secondary Sanctions Pursuant to the Hizballah Financial Sanctions Regulations; Passport 042833 (Lebanon); Secretary General of HIZBALLAH (individual) [SDT] [SYRIA].

42. NOUREDDINE, Mohamad (a.k.a. NUR-AL-DIN, Muhammad Mustafa); DOB 23 Oct 1974; POB Beirut, Lebanon; nationality Lebanon; Additional Sanctions Information—Subject to Secondary Sanctions Pursuant to the Hizballah Financial Sanctions Regulations; Gender Male; Passport RL0629138 (Lebanon) (individual) [SDGT] (Linked To: HIZBALLAH).

43. OMAIRI, Farouk (a.k.a. AL-OMAIRI, Faruk; a.k.a. AL-UMAYRI, Faruz; a.k.a. OMAIRI, Farouk Abdul Haj; a.k.a. UMAIRI, Faruq), 605 Avenida Brasil, Apt No. 48, Foz do Iguacu, Brazil; DOB 06 Dec 1945; POB Hermel, Lebanon; citizen Brazil; Additional Sanctions Information—Subject to Secondary Sanctions Pursuant to the Hizballah Financial Sanctions Regulations (individual) [SDGT].

44. QABALAN, Muhammad (a.k.a. QABLAN, Muhammad; a.k.a. “AL-GHUL, Hassan”), Southern Suburbs, Beirut, Lebanon; DOB 1969; citizen Lebanon; Additional Sanctions Information—Subject to Secondary Sanctions Pursuant to the Hizballah Financial Sanctions Regulations (individual) [SDGT].

45. SALEH, Ali Mohamad (a.k.a. SALAH, Ali Mohammad; a.k.a. SALEH, Ali Mohamed; a.k.a. SALEH, Ali Mohammad; a.k.a. SALIH, Ali Abd-Al-Amir Muhammad; a.k.a. SALIH, Ali Muhammad; a.k.a. SALIH, Ali Muhammad Abd-Al-Amir); DOB 01 Jan 1974; POB Adchit, Lebanon; Additional Sanctions Information—Subject to Secondary Sanctions Pursuant to the Hizballah Financial Sanctions Regulations; Cedula No. 1124006380 (Colombia); Passport AJ911608 (Colombia); alt. Passport 2071362 (Lebanon); alt. Passport 1183967 (Lebanon) (individual) [SDNTK] [SDGT] (Linked To: ALMACEN BATUL; Linked To: COMERCIAL ESTILO Y MODA).

46. SERHAN, Fadi Hussein (a.k.a. SARHAN, Fadi Husayn; a.k.a. SIRHAN, Fadi), Own Building, Kanisat Marmkhael, Saliba Street, Corniche, Al-Mazraa, Beirut, Lebanon; Jaafar Building, Mazraa Street, Beirut, Lebanon; Jaafar Building, Mseytbi Street, Beirut, Lebanon; Jaafar Building, Salim Slam Street, Beirut, Lebanon; Jishi Building, Salim Slam Street, Beirut, Lebanon; Own Building, Main Street, Kfar Kila, Lebanon; DOB 01 Apr 1961; POB Kafr Kila, Lebanon; nationality Lebanon; Additional Sanctions Information—Subject to Secondary Sanctions Pursuant to the Hizballah Financial Sanctions Regulations; Gender Male; Passport RL0962973 (Lebanon) (individual) [SDGT] (Linked To: HIZBALLAH).

47. SHALAN, Abd Al Nur (a.k.a. CHAALAN, Abdul Nur Ali; a.k.a. SHAALAN, Abdul Nur Ali; a.k.a. SHALAN, Abd Al Nur Ali; a.k.a. SHA'LAN, Abdul Nur Ali; a.k.a. SHALAN, Abdul-Nur Ali); DOB 17 May 1964; alt. DOB 1961; POB Baabda, Lebanon; Additional Sanctions Information—Subject to Secondary Sanctions Pursuant to the Hizballah Financial Sanctions Regulations (individual) [SDGT] (Linked To: HIZBALLAH).

48. SHUKR, Fu'ad (a.k.a. CHAKAR, Fu'ad; a.k.a. “CHAKAR, Al-Hajj Mohsin”), Harat Hurayk, Lebanon; Ozai, Lebanon; Al-Firdaws Building, Al-'Arid Street, Haret Hreik, Lebanon; DOB 1962; POB An Nabi Shit, Ba'labakk, Biqa' Valley, Lebanon; alt. POB Beirut, Lebanon; Additional Sanctions Information—Subject to Secondary Sanctions Pursuant to the Hizballah Financial Sanctions Regulations (individual) [SYRIA] (Linked To: HIZBALLAH).

49. TABAJA, Adham Husayn (a.k.a. TABAJA, Adham Hussein; a.k.a. TABAJAH, Adham); DOB 24 Oct 1967; POB Kfartebnit 50, Lebanon; alt. POB Kfar Tibnit, Lebanon; alt. POB Ghobeiry, Lebanon; alt. POB Al Ghubayrah, Lebanon; nationality Lebanon; Additional Sanctions Information—Subject to Secondary Sanctions Pursuant to the Hizballah Financial Sanctions Regulations; Gender Male; Passport RL1294089 (Lebanon); Identification Number 00986426 (Iraq) (individual) [SDGT] (Linked To: HIZBALLAH).

50. TAHINI, Abdallah Asad (a.k.a. THAHINI, Abdallah; a.k.a. THINI, Abdalla As'ad; a.k.a. “TAHINI, Ahmad”); DOB 20 Jun 1965; POB Lebanon; Additional Sanctions Information—Subject to Secondary Sanctions Pursuant to the Hizballah Financial Sanctions Regulations (individual) [SDGT] (Linked To: HIZBALLAH).

51. TAJIDEEN, Ali (a.k.a. TAGEDDINE, Ali Mohamed; a.k.a. TAJ AL DIN, Ali; a.k.a. TAJEDDIN, Ali Mohammad Abdel Hassan; a.k.a. TAJEDDIN, Ali Mohammad Abed Al-Hassan; a.k.a. TAJEDDINE, Ali); DOB 1961; alt. DOB 1963; POB Hanaway, Lebanon; alt. POB Hanouay, Lebanon; alt. POB Hanawiya, Lebanon; nationality Lebanon; Additional Sanctions Information—Subject to Secondary Sanctions Pursuant to the Hizballah Financial Sanctions Regulations (individual) [SDGT].

52. TAJIDEEN, Husayn (a.k.a. TAJ AL DIN, Husayn; a.k.a. TAJIDEEN, Hussein; a.k.a. TAJIDINE, Hajj Hussein), The Gambia; DOB 1963; Additional Sanctions Information—Subject to Secondary Sanctions Pursuant to the Hizballah Financial Sanctions Regulations (individual) [SDGT].

53. TARABAIN CHAMAS, Mohamad (a.k.a. CHAMS, Mohamad; a.k.a. TARABAY, Muhammad; a.k.a. TARABAYN SHAMAS, Muhammad), Avenida Jose Maria De Brito 606, Apartment 51, Foz do Iguacu, Brazil; Cecilia Meirelles 849, Bloco B, Apartment 09, Foz do Iguacu, Brazil; DOB 11 Jan 1967; POB Asuncion, Paraguay; alt. citizen Lebanon; alt. citizen Brazil; alt. citizen Paraguay; Additional Sanctions Information—Subject to Secondary Sanctions Pursuant to the Hizballah Financial Sanctions Regulations; National Foreign ID Number RNE: W031645-8 (Brazil) (individual) [SDGT].

54. WEHBE, Bilal Mohsen (a.k.a. WAHBE, Bilal; a.k.a. WAHBI, Bilal Mohsen; a.k.a. WAHBI, Bilal Muhsin; a.k.a. WAHBI, Muhsin Bilal; a.k.a. WEHBI, Bilal Mohsem; a.k.a. WEHBI, Bilal Mohsen; a.k.a. WIHBI, Bilal Muhsin), Avenida Jose Maria de Brito 929, Centro,, Foz Do Iguacu, Parana State, Brazil; DOB 07 Jan 1967; Additional Sanctions Information—Subject to Secondary Sanctions Pursuant to the Hizballah Financial Sanctions Regulations; Passport CZ74340 (Brazil); alt. Passport 0083628 (Lebanon); Identification Number 77688048 (Brazil); Shaykh (individual) [SDGT].

55. ZAHER EL DINE, Hamdi (a.k.a. ZAHREDDINE, Hamdi); DOB 20 Jul 1984; nationality Lebanon; Additional Sanctions Information—Subject to Secondary Sanctions Pursuant to the Hizballah Financial Sanctions Regulations; Gender Male; Passport RL2146270 (Lebanon) (individual) [SDGT] (Linked To: HIZBALLAH).

56. ZEAITER, Ali (a.k.a. ZOEITER, Ali; a.k.a. ZU'AYTAR, 'Ali; a.k.a. ZU'AYTIR, Ali Husayn), Tianhelu 351 Hao, Tianhequ, Guangzhou, China; Room 2203A, Grand Tower, No. 228 Tianhe Road, Tianhe District, Guangzhou, China; Room 2203A, Guangcheng Building, No. 228 Tianhe Road, Guangzhou, China; 204 No. 253 Tianhebei Road, Guangzhou, China; DOB 24 Feb 1977; nationality Lebanon; Additional Sanctions Information—Subject to Secondary Sanctions Pursuant to the Hizballah Financial Sanctions Regulations; Passport RL1924321 (Lebanon); alt. Passport RL0877465 (Lebanon); General Manager, Stars International Ltd (individual) [SDGT].

57. ZURAIK, Ali Hasan (a.k.a. ZRAIQ, Ali; a.k.a. ZREIK, Ali; a.k.a. ZREIK, Ali Hassan; a.k.a. ZURAYQ, Ali); DOB 1952; POB Al Khiyam, Lebanon; Additional Sanctions Information—Subject to Secondary Sanctions Pursuant to the Hizballah Financial Sanctions Regulations; Passport RL0266714 (Lebanon); alt. Passport 1082625 (Lebanon) (individual) [SDGT].

Entities

1. AERO SKYONE CO. LIMITED (a.k.a. AERO SKY ONE LTD; a.k.a. AEROSKYONE CO. LTD), Tianhe Qu, Tianhe Bei Lu, 255 Hao, 1606 Fang, Guangzhou, China; Room 1501 (340), 15/F, SPA Center, 53-55 Lockhart Road, Wan Chai, Hong Kong; Room 1501 (340), Lockhart, Wan Chai, Hong Kong; Web site www.aerskyone.com; Additional Sanctions Information—Subject to Secondary Sanctions Pursuant to the Hizballah Financial Sanctions Regulations [SDGT] (Linked To: ZEAITER, Ali).

2. AL MANAR TV, Al Manar TV, Abed al Nour Street, Haret Hriek, Beirut, Lebanon; PO Box 354/25, Beirut, Lebanon; Additional Sanctions Information—Subject to Secondary Sanctions Pursuant to the Hizballah Financial Sanctions Regulations; info@manartv.com; www.manartv.com; www.almanar.com.lb [SDGT].

3. AL NOUR RADIO (a.k.a. AL NOUR BROADCASTING STATION; a.k.a. AL NUR RADIO; a.k.a. RADIO ANNOUR), Abed Al Nour Street, PO Box 197/25, Alghobeiri, Haret Hriek, Beirut, Lebanon; Additional Sanctions Information—Subject to Secondary Sanctions Pursuant to the Hizballah Financial Sanctions Regulations; info@al-nour.net; www.al-nour.net [SDGT].

4. AL-INMAA ENGINEERING AND CONTRACTING (a.k.a. AL-INMAA GROUP FOR ENGINEERING AND CONTRACTING; a.k.a. INMAA 'AL' FOR ENGINEERING AND CONTRACTING SARL), Ground Floor, Inmaa Building, New Airport Highway, Beirut, Lebanon; Airport Highway, Bir Hassan, Beirut, Lebanon; Aljadriya, Baghdad, Iraq; Aljazzar Road, Basra, Iraq; Al-Jaza'ir Street, 'Oman Neighborhood, Basra, Iraq; Web site www.alinmaa.com.lb; Additional Sanctions Information—Subject to Secondary Sanctions Pursuant to the Hizballah Financial Sanctions Regulations [SDGT] (Linked To: TABAJA, Adham Husayn; Linked To: AL-INMAA GROUP FOR TOURISM WORKS, LLC).

5. AL-INMAA FOR ENTERTAINMENT AND LEISURE PROJECTS (a.k.a. AL-INMAA FOR ENTERTAINMENTS AND LEISURE PROJECTS; a.k.a. AL-INMAA GROUP FOR ENTERTAINMENT AND LEISURE PROJECTS), Ground Floor, Al Rabieh Building, New Airport Highway, Beirut, Lebanon; Additional Sanctions Information—Subject to Secondary Sanctions Pursuant to the Hizballah Financial Sanctions Regulations [SDGT] (Linked To: AL-INMAA GROUP FOR TOURISM WORKS, LLC).

6. AL-INMAA GROUP FOR TOURISM WORKS, LLC (a.k.a. AL-INMAA GROUP; a.k.a. AL-INMAA GROUP FOR TOURISM WORK, LLC; a.k.a. AL-INMAA GROUP, LLC), Al-Inmaa Group Building, New Airport Highway, Beirut, Lebanon; Web site www.alinmaa-group.com; Additional Sanctions Information—Subject to Secondary Sanctions Pursuant to the Hizballah Financial Sanctions Regulations; Commercial Registry Number 8-0788 (Lebanon) [SDGT] (Linked To: TABAJA, Adham Husayn).

7. AL-QARD AL-HASSAN ASSOCIATION (a.k.a. AL-QUARD AL-HASSAN ASSOCIATION; a.k.a. AL-QUARDH AL-HASSAN ASSOCIATION; a.k.a. KARADH AL-HASSAN), Beirut, Lebanon; Additional Sanctions Information—Subject to Secondary Sanctions Pursuant to the Hizballah Financial Sanctions Regulations [SDGT].

8. AMIGO SUPERMARKET LIMITED (a.k.a. AMIGO SUPERMARKET), 1023, Adetokunbo Ademola Crescent, Wuse II, Abuja, Nigeria; Additional Sanctions Information—Subject to Secondary Sanctions Pursuant to the Hizballah Financial Sanctions Regulations [SDGT] (Linked To: FAWAZ, Mustapha Reda Darwish; Linked To: FAWAZ, Fouzi Reda Darwish).

9. BARAKAT IMPORT EXPORT LTDA, Iquique, Chile; Additional Sanctions Information—Subject to Secondary Sanctions Pursuant to the Hizballah Financial Sanctions Regulations; Tax ID No. AABA 670850 Y [SDGT].

10. BAYT AL-MAL (a.k.a. BAYT AL-MAL LIL MUSLIMEEN), Harat Hurayk, Beirut, Lebanon; Burj al-Barajinah, Lebanon; Sidon, Lebanon; Tyre, Lebanon; Al-Nabatiyah, Lebanon; Ba'albak, Lebanon; Hirmil, Lebanon; Additional Sanctions Information—Subject to Secondary Sanctions Pursuant to the Hizballah Financial Sanctions Regulations [SDGT].

11. BIBLOS TRAVEL AGENCY (a.k.a. BIBLIOS TRAVEL; a.k.a. BIBLOS TRAVEL CA; a.k.a. BIBLOS TRAVEL, C.A.), Avenida Baralt, Esquina Maderero, Edificio Santa Isabel II, PB, Loc. 1, Caracas, Venezuela; Additional Sanctions Information—Subject to Secondary Sanctions Pursuant to the Hizballah Financial Sanctions Regulations [SDGT].

12. CAR CARE CENTER (a.k.a. CAR CARE CENTER CCC; a.k.a. CAR CARE CENTER COMPANY; a.k.a. “CCC COMPANY”), Hadeth Kafaat, Hadi Nasrallah Highway, Baabda, Lebanon; Additional Sanctions Information—Subject to Secondary Sanctions Pursuant to the Hizballah Financial Sanctions Regulations [SDGT] (Linked To: HIZBALLAH).

13. CASA APOLLO, Galeria Page, Ciudad del Este, Paraguay; Additional Sanctions Information—Subject to Secondary Sanctions Pursuant to the Hizballah Financial Sanctions Regulations [SDGT].

14. FASTLINK SARL (a.k.a. FAST LINK SAL), Hadi Nasrallah Av, MEAB Building, 1st Floor, Beirut, Lebanon; Cendrella Street, Dalas Center, Chyah, Baabda, Lebanon; Dallas, 6th Floor, Saida Old Road, Chiyah, Beirut, Lebanon; Additional Sanctions Information—Subject to Secondary Sanctions Pursuant to the Hizballah Financial Sanctions Regulations [SDGT] (Linked To: STARS GROUP HOLDING).

15. GALERIA PAGE (a.k.a. GALERIA PAGE I), 899 Calle Regimento Pirebebuy, Ciudad del Este, Paraguay; Additional Sanctions Information—Subject to Secondary Sanctions Pursuant to the Hizballah Financial Sanctions Regulations [SDGT].

16. GOODWILL CHARITABLE ORGANIZATION, INC. (f.k.a. AL-SHAHID SOCIAL ASSOCIATION; f.k.a. EDUCATIONAL DEVELOPMENT ASSOCIATION), 13106 Warren Ave. Suite #4, Dearborn, MI 48126, United States; PO Box 1794, Dearborn, MI 48126, United States; Additional Sanctions Information—Subject to Secondary Sanctions Pursuant to the Hizballah Financial Sanctions Regulations [SDGT].

17. HILAL TRAVEL AGENCY (a.k.a. HILAL TRAVEL C.A.; a.k.a. KANAAN TRAVEL), Avenida Baralt, Esquina Maderero, Edificio Santa Isabel, Caracas, Venezuela; Avenida Baralt, Esquina Maderero, Edificio Santa Isabel, PB, Local 1, Caracas, Venezuela; Additional Sanctions Information—Subject to Secondary Sanctions Pursuant to the Hizballah Financial Sanctions Regulations; Business Registration Document # 80074366 (Venezuela) [SDGT].

18. HIZBALLAH (a.k.a. ANSAR ALLAH; a.k.a. FOLLOWERS OF THE PROPHET MUHAMMED; a.k.a. ISLAMIC JIHAD; a.k.a. ISLAMIC JIHAD FOR THE LIBERATION OF PALESTINE; a.k.a. ISLAMIC JIHAD ORGANIZATION; a.k.a. ORGANIZATION OF RIGHT AGAINST WRONG; a.k.a. ORGANIZATION OF THE OPPRESSED ON EARTH; a.k.a. PARTY OF GOD; a.k.a. REVOLUTIONARY JUSTICE ORGANIZATION); Additional Sanctions Information—Subject to Secondary Sanctions Pursuant to the Hizballah Financial Sanctions Regulations [FTO] [SDGT] [SDT] [SYRIA].

19. IMAM KHOMEINI RELIEF COMMITTEE (LEBANON BRANCH) (a.k.a. COMITE ISLAMIQUE DAIDES ET DE BIEM LIBAN; a.k.a. EMDAD ASSISTANCE FOUNDATION; a.k.a. EMDAD COMMITTEE FOR ISLAMIC CHARITY; a.k.a. IMAM KHOMEINI EMDAD COMMITTEE; a.k.a. IMAM KHOMEINI FOUNDATION; a.k.a. IMAM KHOMEINI IMDAD COMMITTEE; a.k.a. IMAM KHOMEINI RELIEF ORGANIZATION; a.k.a. IMAM KHOMEINI SUPPORT COMMITTEE; a.k.a. IMAM KHOMEINY AID COMMITTEE; a.k.a. IMDAD ASSOCIATION OF THE ISLAMIC PHILANTHROPIC COMMITTEE; a.k.a. IMDAD COMMITTEE FOR ISLAMIC CHARITY; a.k.a. IMDAD ISLAMIC ASSOCIATION COMMITTEE FOR CHARITY; a.k.a. ISLAMIC CHARITY EMDAD; a.k.a. ISLAMIC CHARITY EMDAD COMMITTEE; a.k.a. ISLAMIC EMDAD CHARITABLE COMMITTEE; a.k.a. KHOMEINI CHARITABLE FOUNDATION; a.k.a. KHOMEINI SOCIAL HELP COMMITTEE; a.k.a. KOMITE EMDAD EMAM; a.k.a. “AL-IMDAD”), P.O. Box 25-211 Beirut AiRabi' Building, 2nd Floor,, Mokdad Street, Haret Hreik, Beirut, Lebanon; P.O. Box 25/221 El Ghobeiry, Beirut, Lebanon; Additional Sanctions Information—Subject to Secondary Sanctions; alt. Additional Sanctions Information—Subject to Secondary Sanctions Pursuant to the Hizballah Financial Sanctions Regulations [SDGT] [IFSR].

20. ISLAMIC RESISTANCE SUPPORT ORGANIZATION (a.k.a. HAYAT AL-DAM LIL-MUQAWAMA AL-ISLAMIYA; a.k.a. ISLAMIC RESISTANCE SUPPORT ASSOCIATION), Beirut, Lebanon; Additional Sanctions Information—Subject to Secondary Sanctions Pursuant to the Hizballah Financial Sanctions Regulations [SDGT].

21. JIHAD AL-BINA (a.k.a. CONSTRUCTION FOR THE SAKE OF THE HOLY STRUGGLE; a.k.a. CONSTRUCTION JIHAD; a.k.a. HOLY CONSTRUCTION FOUNDATION; a.k.a. JIHAD AL BINAA; a.k.a. JIHAD CONSTRUCTION; a.k.a. JIHAD CONSTRUCTION FOUNDATION; a.k.a. JIHAD CONSTRUCTION INSTITUTION; a.k.a. JIHAD-AL-BINAA ASSOCIATION; a.k.a. JIHADU-I-BINAA; a.k.a. STRUGGLE FOR RECONSTRUCTION), Beirut, Lebanon; Bekaa Valley, Lebanon; Southern Lebanon, Lebanon; Additional Sanctions Information—Subject to Secondary Sanctions Pursuant to the Hizballah Financial Sanctions Regulations [SDGT].

22. KAFAK ENTERPRISES LIMITED, 88B, T/Balewa Road, Kano State, Nigeria; Sierra Leone; Additional Sanctions Information—Subject to Secondary Sanctions Pursuant to the Hizballah Financial Sanctions Regulations [SDGT] (Linked To: FAWAZ, Mustapha Reda Darwish; Linked To: FAWAZ, Fouzi Reda Darwish).

23. KAIRABA SUPERMARKET (a.k.a. KAIRABA SHOPPING CENTER), Kairaba Ave, P.O. Box 2176, Banjul, The Gambia; 62 Buckle Street, Banjul, The Gambia; Pipeline Road, Banjul, The Gambia; Additional Sanctions Information—Subject to Secondary Sanctions Pursuant to the Hizballah Financial Sanctions Regulations [SDGT].

24. LABICO SAL OFFSHORE (a.k.a. LABICO SAL (OFF SHORE)), Bou Ghannam Building, Azhar Street, Kobbe Doha, Aramoun, Aaley, Lebanon; Labico Building, Azhar Street, Aramoun, Aaley, Lebanon; Additional Sanctions Information—Subject to Secondary Sanctions Pursuant to the Hizballah Financial Sanctions Regulations [SDGT] (Linked To: ZEAITER, Ali).

25. LEBANESE MEDIA GROUP (a.k.a. LEBANESE COMMUNICATION GROUP), Al Manar Building, Ahmad Kassir Street, Haret Hriek, Baabda, Lebanon; Abed Al Nour Street, Haret Hriek, PO Box 354/25, Beirut, Lebanon; Additional Sanctions Information—Subject to Secondary Sanctions Pursuant to the Hizballah Financial Sanctions Regulations; Company ID: No. 59 531 at Commercial Registry of the Civil Court of First Instance at Baabda, Lebanon [SDGT].

26. LE-HUA ELECTRONIC FIELD CO. LIMITED (a.k.a. LE-HUA ELEC F CO. LTD), Room B, 5/F, Building 2, Guilong Jiayuan Gui Yuan North Road, Guiyuan Neighborhood St Office, Luohu District, Shenzhen, Guangdong, China; 15th Floor, Ming Shang Ge Building, Bao'an Street, Luo Hu Area, Shenzhen, Guangdong, China; Flat/Room 1610, Nan Fung Tower, 173 Des Voeux Road Central, Hong Kong; Additional Sanctions Information—Subject to Secondary Sanctions Pursuant to the Hizballah Financial Sanctions Regulations [SDGT] (Linked To: CHERRI, Adel Mohamad).

27. MARTYRS FOUNDATION (a.k.a. AL-SHAHID ASSOCIATION FOR MARTYRS AND INTERNEES FAMILIES; a.k.a. AL-SHAHID CORPORATION; a.k.a. BONYAD SHAHID; a.k.a. BONYAD-E SHAHID; a.k.a. BONYAD-E SHAHID VA ISARGARAN; a.k.a. ES-SHAHID; a.k.a. IRANIAN MARTYRS FUND; a.k.a. SHAHID FOUNDATION; a.k.a. SHAHID FOUNDATION OF THE ISLAMIC REVOLUTION), P.O. Box 15815-1394, Tehran 15900, Iran; Additional Sanctions Information—Subject to Secondary Sanctions; alt. Additional Sanctions Information—Subject to Secondary Sanctions Pursuant to the Hizballah Financial Sanctions Regulations [SDGT] [IFSR].

28. MARTYRS FOUNDATION IN LEBANON (a.k.a. AL-MUA'ASSAT AL-SHAHID; a.k.a. AL-SHAHID CHARITABLE AND SOCIAL ORGANIZATION; a.k.a. AL-SHAHID FOUNDATION; a.k.a. AL-SHAHID ORGANIZATION; a.k.a. HIZBALLAH MARTYRS FOUNDATION; a.k.a. ISLAMIC REVOLUTION MARTYRS FOUNDATION; a.k.a. LEBANESE MARTYR ASSOCIATION; a.k.a. LEBANESE MARTYR FOUNDATION; a.k.a. MARTYRS INSTITUTE), P.O. Box 110 24, Bir al-Abed, Beirut, Lebanon; Biqa' Valley, Lebanon; Additional Sanctions Information—Subject to Secondary Sanctions Pursuant to the Hizballah Financial Sanctions Regulations [SDGT].

29. PALESTINIAN MARTYRS FOUNDATION (a.k.a. AL-SHAHID FOUNDATION- PALESTINIAN BRANCH; a.k.a. MUASSASAT SHAHID FILISTIN; a.k.a. PALESTINIAN MARTYRS INSTITUTION GROUP; a.k.a. SHAHID FUND), Lebanon; Additional Sanctions Information—Subject to Secondary Sanctions Pursuant to the Hizballah Financial Sanctions Regulations [SDGT].

30. SPECTRUM INVESTMENT GROUP HOLDING SAL (a.k.a. SPECTRUM INTERNATIONAL INVESTMENT HOLDING SAL; a.k.a. SPECTRUM INVESTMENT GROUP HOLDING; a.k.a. SPECTRUM INVESTMENT GROUP SAL HOLDING; a.k.a. SPECTRUM INVESTMENT HOLDING; a.k.a. “SPECTRUM HOLDING”), Floor 17, Verdun 732 Building, Rachid Karameh Street, Verdun, Beirut, Lebanon; Verdun 732 Center, Rachid Karame Street, Beirut, Lebanon; P.O. Box 113-5333, Beirut, Lebanon; Additional Sanctions Information—Subject to Secondary Sanctions Pursuant to the Hizballah Financial Sanctions Regulations; Business Registration Document # 1990106 (Lebanon) [SDGT] (Linked To: CHARARA, Ali Youssef).

31. STARS COMMUNICATIONS LTD (a.k.a. STARS COMMUNICATIONS; a.k.a. STARS COMMUNICATIONS LLC; a.k.a. STARS COMMUNICATIONS LTD SARL), Hadi Nasrallah Av, MEAB Building, 1st Floor, Beirut, Lebanon; Bir el Abed, Snoubra Street, Haret Hreyk, Beirut, Lebanon; Tayyouneh, Haret Hreyk, Beirut, Lebanon; Port, Nahr, Beirut, Lebanon; Ras El Ain, Baalbeck, Lebanon; Hadeth, Lebanon; Nabatiyeh, Lebanon; Old Saida Road, Beirut Mall, Beirut, Lebanon; Duty-Free Airport, Rafik Hariri International Airport, Beirut, Lebanon; Sharl Helo Street, Beirut Seaport, Lebanon; Kamil Shamoun Street, Dekwaneh, Beirut, Lebanon; Hermel, Lebanon; Additional Sanctions Information—Subject to Secondary Sanctions Pursuant to the Hizballah Financial Sanctions Regulations; Commercial Registry Number 2001929 (Lebanon) [SDGT] (Linked To: AMHAZ, Kamel Mohamad; Linked To: STARS GROUP HOLDING).

32. STARS COMMUNICATIONS OFFSHORE SAL (a.k.a. STARS COMMUNICATION SAL OFF-SHORE; a.k.a. STARS COMMUNICATIONS OFFSHORE; a.k.a. STARS OFFSHORE), Hojeij Building, 2nd Floor, Zaghloul Street, Haret Hreik, Baabda, Lebanon; Bdeir Building, Ground Floor, Snoubra Street, Ghobeiry, Baabda, Lebanon; Hadi Nasrallah Av, MEAB Building, 1st Floor, Beirut, Lebanon; Additional Sanctions Information—Subject to Secondary Sanctions Pursuant to the Hizballah Financial Sanctions Regulations; Commercial Registry Number 1801374 (Lebanon) [SDGT] (Linked To: STARS GROUP HOLDING).

33. STARS GROUP HOLDING (a.k.a. STARS GROUP HOLDING SAL; a.k.a. STARS GROUP SAL (HOLDING)), Property Number 5208/62, Issam Mohamed Amha, 6th Floor, Dallas Center, Old Saida Road, C, Lebanon; Postal Box 13-5483, Lebanon; Bdeir Building, Snoubra Street, Bir El-Abed Area, Haret Hreik, Baabda, Lebanon; Bir El Abed, Hadi Nasrallah Highway, Middle East & Africa Bank Building, First Floor, Beirut, Lebanon; Old Saida Road, Dallas Center, 6th Floor, Beirut, Lebanon; Web site www.starscom.net; Additional Sanctions Information—Subject to Secondary Sanctions Pursuant to the Hizballah Financial Sanctions Regulations; Commercial Registry Number 1901453 (Lebanon) [SDGT] (Linked To: AMHAZ, Kamel Mohamad).

34. STARS INTERNATIONAL LTD (a.k.a. STARS INTERNATIONAL CO. LTD), Room 2203A, Grand Tower, No. 228 TianHe Road, TianHe District, Guangzhou, China; F-18, Dubai Airport Free Zone, Dubai, United Arab Emirates; Additional Sanctions Information—Subject to Secondary Sanctions Pursuant to the Hizballah Financial Sanctions Regulations [SDGT] (Linked To: ZEAITER, Ali; Linked To: STARS GROUP HOLDING).

35. TAJCO (a.k.a. GRAND STORES (THE GAMBIA LOCATION ONLY); a.k.a. TAJCO COMPANY; a.k.a. TAJCO COMPANY LLC; a.k.a. TAJCO LTD; a.k.a. TAJCO SARL; a.k.a. TRADEX CO), 62 Buckle Street, Banjul, The Gambia; 1 Picton Street, Banjul, The Gambia; Dohat Building 1st Floor, Liberation Avenue, Banjul, The Gambia; Tajco Building, Main Street, Hannawiyah, Tyre, Lebanon; Tajco Building, Hanouay, Sour (Tyre), Lebanon; 30 Sani Abacha Street, Freetown, Sierra Leone; Web site www.tajco-ltd.com; Web site www.tajcogambia.com; Additional Sanctions Information—Subject to Secondary Sanctions Pursuant to the Hizballah Financial Sanctions Regulations; (Tradex Co. is a subsidiary of Tajco Company and operates from the same business address in Freetown, Sierra Leone as Tajco Company.) [SDGT].

36. TELESERVE PLUS SAL (a.k.a. TELESERVEPLUS), 4th Floor, Dalas Center, Old Saida Road, Chiyah, Baabda, Lebanon; Postal Box 13-5483, Lebanon; Old Saida Avenue, Dallas Center, 6th Floor, Beirut, Lebanon; 6th Floor, Dallas Center, Old Saida Road, Chiyah, Baabda, Lebanon; Web site www.teleserveplus.com; Additional Sanctions Information—Subject to Secondary Sanctions Pursuant to the Hizballah Financial Sanctions Regulations; Commercial Registry Number 2004609 (Lebanon) [SDGT] (Linked To: STARS GROUP HOLDING).

37. TRADE POINT INTERNATIONAL S.A.R.L., 3rd Floor, Gulf Building, Block B, Hafez Al Asad Street, Airport Highway, Bir Hassan, Beirut, Lebanon; Gulf Building, 3rd Floor, Hafiz Al Asad Autostrade, Ghobeiri, Baabda, Lebanon; Additional Sanctions Information—Subject to Secondary Sanctions Pursuant to the Hizballah Financial Sanctions Regulations; Registration ID 2020615 [SDGT] (Linked To: NOUREDDINE, Mohamad).

38. UNIQUE STARS MOBILE PHONES LLC (a.k.a. UNIQUE STARS LLC), Postal Box 98498, Dubai, United Arab Emirates; Al Maktoum Road, Deira, Al Kabira Building, First Floor, Office #103, PO Box 98498, Dubai, United Arab Emirates; Office 103, 1st Floor, Sheikh Rashed Building, Al Maktoum Road, Deira, DXB Municipality, Dubai, United Arab Emirates; Gargash Center, Nasser Square, Shop No. 41, Dubai, United Arab Emirates; Additional Sanctions Information—Subject to Secondary Sanctions Pursuant to the Hizballah Financial Sanctions Regulations; Dubai Chamber of Commerce Membership No. 116340; Commercial Registry Number 591610 (United Arab Emirates) [SDGT] (Linked To: IBRAHIM, Ayman; Linked To: STARS GROUP HOLDING).

39. VATECH SARL (a.k.a. VATECH LEBANON; a.k.a. VATECH VIDEO AND PRO AUDIO; a.k.a. “VATECH”), P.O. Box 14-5728, Jishi Building, Salim Slam Street, Mazraa, Beirut, Lebanon; P.O. Box 14-5728, Borj al Salam Building, Salim Slam Street, Beirut, Lebanon; Jaafar Building, Mazraa Street, Beirut, Lebanon; Jaafar Building, Moseitbi Street, Beirut, Lebanon; Jaafar Building, Salim Slam Street, Mazraa, Beirut, Lebanon; Jishi Building, Mazraa Street, Beirut, Lebanon; Web site www.vatech.com.lb; Additional Sanctions Information—Subject to Secondary Sanctions Pursuant to the Hizballah Financial Sanctions Regulations [SDGT] (Linked To: SERHAN, Fadi Hussein).

40. WAAD PROJECT (a.k.a. AL-WAAD AL-SADIQ; a.k.a. 'MASHURA WAAD LAADAT AL-AAMAR; a.k.a. WAAD; a.k.a. WA'AD AS SADIQ; a.k.a. WAAD COMPANY; a.k.a. WAAD FOR REBUILDING THE SOUTHERN SUBURB; a.k.a. WAAD PROJECT FOR RECONSTRUCTION; a.k.a. WA'D PROJECT; a.k.a. WAED; a.k.a. WA'ED ORGANIZATION; a.k.a. WA'ID COMPANY), Harat Hurayk, Lebanon; Beirut, Lebanon; Additional Sanctions Information—Subject to Secondary Sanctions Pursuant to the Hizballah Financial Sanctions Regulations; Telephone No. 009613679153; Telephone No. 009613380223; Telephone No. 03889402; Telephone No. 03669916 [SDGT].

41. WONDERLAND AMUSEMENT PARK AND RESORT LTD (a.k.a. WONDERLAND AMUSEMENT PARK), B1 Kukbawa, Opposite National Stadium, Abuja, FCT, Nigeria; Additional Sanctions Information—Subject to Secondary Sanctions Pursuant to the Hizballah Financial Sanctions Regulations [SDGT] (Linked To: FAWAZ, Mustapha Reda Darwish; Linked To: FAWAZ, Fouzi Reda Darwish).

42. YOUSSER COMPANY FOR FINANCE AND INVESTMENT, Lebanon; Additional Sanctions Information—Subject to Secondary Sanctions Pursuant to the Hizballah Financial Sanctions Regulations [SDGT].

Dated: May 13, 2016.
John E. Smith,
Acting Director, Office of Foreign Assets Control.

[FR Doc. 2016-11684 Filed 5-17-16; 8:45 am]

BILLING CODE 4810-AL-P